ENVIRONMENTAL PROTECTION AGENCY

[EPA-HQ-OAR-2003-0033; FRL-9275-2]

Agency Information Collection Activities; Submission to OMB for Review and Approval; Comment Request; EPA's ENERGY STAR® Product Labeling (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 4, 2011.

ADDRESSES: Submit your comments, referencing Docket ID No. EPA-HQ-OAR-2003-0033 to (1) EPA online using www.regulations.gov (our preferred method), by email to a-and-r-docket@epa.gov or by mail to: EPA Docket Center, Environmental Protection Agency, Air and Radiation Docket, Mailcode 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Christopher Kent, Climate Protection Partnership Division, Office of Air and Radiation, Mailcode 6202J, Environmental Protection Agency, 1200 Pennsylvania Ave., NW., Washington, DC 20460; telephone number: 202-343-9046; fax number: 202-343-2200; email address; kent.christopher@epa.gov.

SUPPLEMENTARY INFORMATION: EPA has submitted the following ICR to OMB for review and approval according to the procedures prescribed in 5 CFR 1320.12. On October 5, 2010 (75 FR 61481), EPA sought comments on this ICR pursuant to 5 CFR 1320.8(d). EPA received no comments. Any additional comments on this ICR should be submitted to EPA and OMB within 30 days of this notice.

EPA has established a public docket for this ICR under Docket ID No. EPA-HQ-OAR-2003-0033, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: EPA's ENERGY STAR® Product Labeling (Renewal)

ICR numbers: EPA ICR No. 2078.05, OMB Control No. 2060-0528.

ICR Status: This ICR is scheduled to expire on March 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: ENERGY STAR is a voluntary program developed in collaboration with industry to create a self-sustaining market for energy efficient products. The center piece of the program is the ENERGY STAR label, a registered certification label that helps consumers identify products that save energy, save money, and help protect the environment without sacrificing quality or performance. In order to protect the integrity of the label and enhance its effectiveness in the marketplace, EPA must ensure that products carrying the label meet appropriate program requirements.

The ENERGY STAR program has determined it necessary to shift from a self-certification program to one in which we have an enhanced qualification and verification process with all testing being done in EPA recognized, accredited labs and partners participating in product specific certification programs. These changes are an effort to preserve the consumer confidence in the ENERGY STAR label and to protect the significant value it offers program partners. EPA believes that the new requirements will mean that leadership companies' participation and the ENERGY STAR label will become even more meaningful in the market. Maintaining the value of this brand requires ensuring products labeled with the ENERGY STAR deliver on their promise to the consumer. Beginning in January 2011, manufacturers must obtain third party certification for new products labeled with the ENERGY STAR mark. As with previous program requirements, program participants submit signed Partnership Agreements indicating that they will adhere to logo-use guidelines and that participating products meet specified energy performance criteria based on a standard test method.

As part of our contribution to the overall success of the program, EPA has agreed to facilitate the sale of qualifying products by providing consumers with easy-to-use information about the products. To be effective, EPA and its relevant recognized certification body must receive qualifying product information from participating manufacturers. Partners need to provide qualifying information prior to labeling so as to ensure that EPA information is recent and accurate. The information will be compiled by the certification body which will then provide EPA with the appropriate data so the product may be incorporated into a complete qualifying products list per product category, posted on the ENERGY STAR Web site, and supplied to those purchasers who request it via phone, fax, or e-mail.

In order to monitor progress and support the best allocation of resources, EPA also asks manufacturers to submit annual shipment data for their ENERGY STAR qualifying products. EPA is flexible as to the methods by which manufacturers may submit unit shipment data. For example, if manufacturers already submit this type of information to a third party, such as a trade association, they are given the option of arranging for shipment data to be sent to EPA via this third party to avoid duplication of efforts and to ensure confidentiality. In using any shipment data received directly from a partner, EPA will mask the source of the data so as to protect confidentiality.

Finally, Partners that wish to receive recognition for their efforts in ENERGY STAR may submit an application for the Partner of the Year Award.

Burden Statement: The annual public reporting and recordkeeping burden for this collection of information is estimated to average 28 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Respondents for this information collection request include Partners in ENERGY STAR. Partners are product manufacturers.

Estimated Number of Respondents: 2050.

Frequency of Response: Initially/one-time and annually.

Estimated Total Annual Hour Burden: 65,338 hours.

Estimated Total Annual Cost: $4,344,125, that includes $32,543 in Operations and Maintenance Costs.

Changes in the Estimates: There is a decrease of 31,750 hours in the total estimated burden currently identified in the OMB Inventory of Approved ICR Burdens. There are several reasons for the change in reporting burden. EPA has changed the ENERGY STAR program from a self-certification program to an enhanced qualification process with all partners participating in product specific certification programs. Partners no longer report directly to EPA to qualify their models but instead work with third party certification bodies who will provide EPA, on a regular basis, with a list of certified models that EPA will post on our web site EPA increased the estimated number of respondents for Partnership Agreements, Unit Shipment data, and Award applications based on improved and updated data and analysis.

Dated: February 25, 2011.
John Moses,
Director, Collection Strategies Division.

[FR Doc. 2011-4776 Filed 3-2-11; 8:45 am]

BILLING CODE 6560-50-P